DEPARTMENT OF COMMERCE

National Oceanic and Atmospheric Administration

[I.D. 110501D]

Gulf of Mexico Fishery Management Council; Public Meetings

AGENCY: National Marine Fisheries Service (NMFS), National Oceanic and Atmospheric Administration (NOAA), Commerce.

ACTION: Notice of public meeting.

SUMMARY: The NOAA Law Enforcement Office and the Gulf of Mexico Fishery Management Council (Council) will host a workshop on violations of closed shrimping areas in south Florida.

DATES: The joint NOAA Enforcement and Council meeting will be held November 28, 2001, from 1 p.m. to 4 p.m.

ADDRESSES: The meeting will be held at the at the Bayou La Batre Community Center, Padgett Switch Road, Bayou La Batre, AL 36509.

Council address: Gulf of Mexico Fishery Management Council, 3018 U.S. Highway 301 North, Suite 1000, Tampa, FL 33619.

FOR FURTHER INFORMATION CONTACT: Dr. Richard L. Leard, Senior Fishery Biologist; telephone: 813-228-2815.

SUPPLEMENTARY INFORMATION: The NOAA Law Enforcement Office and the Council will host a workshop for shrimp fishermen and dealers/processors to review the history of violations in the Tortugas Shrimp Closure and Southwest Florida Seasonal Trawl Closure. The primary purpose of the workshop is to advise industry representatives that violations have increased in these closed areas and other closed areas in state waters and to discuss the penalties that are levied for such violations. NOAA Enforcement representatives and perhaps other enforcement officers will review planned enforcement efforts for the upcoming season that generally begins in December. These officers as well as a Council staff representative will also be available to answer any questions regarding enforcement or management efforts.

Although non-emergency issues not contained in this agenda may come before this group for discussion, those issues may not be the subject of formal action during this meeting. Action will be restricted to those issues specifically identified in this notice and any issues arising after publication of this notice that require emergency action under section 305 (c) of the Magnuson-Stevens Fishery Conservation and Management Act, provided the public has been notified of the Council’s intent to take final action to address the emergency.

A copy of the agenda can be obtained by calling 813-228-2815.

The meeting is open to the public and is physically accessible to people with disabilities. Requests for sign language interpretation or other auxiliary aids should be directed to the Council office by November 21, 2001.

Special Accommodations

The meeting is open to the public and is physically accessible to people with disabilities. Requests for sign language interpretation or other auxiliary aids should be directed to the Council office by November 21, 2001.

Dated: November 6, 2001.
Richard W. Surdi,
Acting Director, Office of Sustainable Fisheries, National Marine Fisheries Service.

[FR Doc. 01-28234 Filed 11-8-01; 8:45 am]

BILLING CODE 3510-22-S